DEPARTMENT OF ENERGY

National Energy Technology Laboratory; Notice of Availability of a Financial Assistance Solicitation

AGENCY: National Energy Technology Laboratory, Department of Energy (DOE).

ACTION: Notice of Availability of a Financial Assistance Solicitation.

SUMMARY: Notice is hereby given of the intent to issue Financial Assistance Solicitation No. DE-PS26-03NT41777 entitled “Novel Approaches to the Management of Greenhouse Gases from Fossil Fuel Energy Systems.” The objective of this solicitation is to solicit applications for grants for research projects directed at novel approaches to the management of GHG emissions from fossil-fuel energy systems. Specifically, the solicitation will provide for the development of cost-effective solutions to the GHG emissions problem from fossil-fuel electric utilities.

DATES: The solicitation will be available on the “Industry Interactive Procurement System” (IIPS) Web page located at http://e-center.doe.gov on or about May 22, 2003. Applicants can obtain access to the solicitation from the address above or through DOE/NETL's Web site at http://www.netl.doe.gov/business.

FOR FURTHER INFORMATION CONTACT: Angela Delmastro, MS 921-107, U.S. Department of Energy, National Energy Technology Laboratory, 626 Cochran's Mill Road, Pittbsburgh PA 15236, E-mail Address: Angela.Delmastro@NETL.DOE.GOV, Telephone Number: 412-386-5038.

SUPPLEMENTARY INFORMATION: It is anticipated that there will be 5-15 awards resulting from this solicitation.

It is estimated that $4.5 million ($1.5-$2.0 million FY04) will be available for award under this solicitation, subject to the availability of funds. The number of awards and range of funding will depend on the number of applications received and selected for award. Future year funding will depend upon suitable progress and the availability of funds.

The objective of this solicitation is to solicit applications for grants for research projects directed at novel approaches to the management of GHG emissions from fossil-fuel energy systems. Specifically, the solicitation will provide for the development of cost-effective solutions to the GHG emissions problem from fossil-fuel electric utilities.

The goals call for resolving outstanding scientific issues and establishing reduced-cost paths to energy and cost-efficient systems to manage or mitigate GHG emissions. Proposals exploring new and innovative approaches for capturing, separating, or storing carbon, or carbonaceous compounds, are particularly welcome. Applications submitted under this solicitation should clearly describe how a successful technology or approach will reduce or mitigate the GHG emissions from fossil-fuel electric utilities. Of specific interest to DOE are CO2 emissions resulting from the generation of electricity using coal.

The main thrust of the research efforts funded under this solicitation is experimental. As such, applications submitted under this solicitation should present a clear path forward such that, at the end of the project term, the R&D work and cost necessary to commercialize the concept can be clearly described. The anticipated term for projects is one (1) to three (3) years.

Collaborative research projects involving more than one institution are encouraged. Applications submitted from different institutions, which are directed at a common research activity, should clearly indicate they are part of a proposed collaboration and contain a brief description of the overall research project. However, each application must have a distinct scope of work and a qualified principal investigator, who is responsible for the research effort being performed at his or her institution. Synergistic collaborations with researchers in federal laboratories and Federally Funded Research and Development Centers (FFRDCs), including the DOE National Laboratories are also encouraged.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on May 27, 2003.
Dale A. Siciliano,
Director, Acquisition and Assistance Division.

[FR Doc. 03-14167 Filed 6-4-03; 8:45 am]

BILLING CODE 6450-01-P